DEPARTMENT OF ENERGY

Federal Energy Regulatory Commission

[Project No. 2652-007, Montana]

PacifiCorp; Notice of Availability of Final Environmental Assessment

July 22, 2002.

In accordance with the National Environmental Policy Act of 1969 and the Federal Energy Regulatory Commission's (Commission) regulations, 18 CFR part 380 (Order No. 486, 52 FR 47897), the Office of Energy Projects staff has reviewed the application for a subsequent license for the Bigfork Hydroelectric Project located on the Swan River, in Flathead County, Montana, and has prepared a final environmental assessment (EA) for the project. The project does not occupy any Federal or tribal lands. In the final EA, the Commission's staff has analyzed the potential environmental effects of the existing project and has concluded that approval of the project, with appropriate environmental protection measures, would not constitute a major federal action significantly affecting the quality of the human environment.

On April 12, 2002, Commission staff issued a draft EA for the project and requested comments within 45 days. Five entities filed comments which are addressed in this final EA.

Copies of the final EA can be viewed at the Commission's Reference and Information Center, Room 2A, 888 First Street, NE., Washington, DC 20426, or by calling 202-208-1371. The document also can be viewed on the web at http://rimsweb1.ferc.gov/rims (call 202-208-2222 for assistance).

For further information, contact Steve Hocking at 202-219-2656.

Magalie R. Salas,
Secretary.

[FR Doc. 02-18987 Filed 7-29-02; 8:45 am]

BILLING CODE 6717-01-P